DEPARTMENT OF DEFENSE

Department of the Army

Intent To Grant an Exclusive License of a U.S. Government-Owned Patent

AGENCY: Department of the Army, DoD.

ACTION: Notice.

SUMMARY: In accordance with 35 U.S.C. 209 and 37 CFR 404.7(a)(1)(i), announcement is made of the intent to grant an exclusive, royalty-bearing, revocable license within the geographic area of the United States of America and its territories and possessions to U.S. Patent No. 6,058,763, issued May 9, 2000 entitled “Apparatus and Method for Automated Biomonitoring of Water Quality;” U.S. Patent No. 6,393,899 issued May 28, 2002, entitled “An Apparatus and Method for Automated Biomonitoring of Water Quality;” and U.S. Patent Application S.N. 10/774,639, filed February 3, 2004 and claiming the benefit of S.N. 60/444,202, filed February 3, 2003, entitled “Apparatus and Method for Portable Automated Biomonitoring of Water Quality” to Intelligent Automation Corporation with its principal place of business at 13029 Danielson St., Suite 200, Poway, CA 92064.

ADDRESSES: Commander, U.S. Army Medical Research and Materiel Command, ATTN: Command Judge Advocate, MCMR-JA, 504 Scott Street, Fort Detrick, Frederick, MD 21702-5012.

FOR FURTHER INFORMATION CONTACT: For patent issues, Ms. Elizabeth Arwine, Patent Attorney, (301) 619-7808. For licensing issues, Dr. Paul Mele, Office of Research & Technology Assessment, (301) 619-6664, both at telefax (301) 619-5034.

SUPPLEMENTARY INFORMATION: Anyone wishing to object to the grant of this license can file written objections along with supporting evidence, if any, within 15 days from the date of this publication. Written objections are to be filed with the Command Judge Advocate, U.S. Army Medical Research and Materiel Command, 504 Scott Street, Fort Detrick, Frederick, Maryland 21702-5012.

Brenda S. Bowen,
Alternate Army Federal Register Liaison Officer.

[FR Doc. 04-14552 Filed 6-25-04; 8:45 am]

BILLING CODE 3710-08-M